DEPARTMENT OF DEFENSE

Department of the Air Force

HQ USAF Scientific Advisory Board

AGENCY: Department of the Air Force, DoD.

ACTION: Notice of meeting.

SUMMARY: Pursuant to Pub. L. 92-463, notice is hereby given of the forthcoming meeting of the 2nd ACC Advisory Panel Meeting. The purpose of the meeting is to allow the SAB leadership to give consensus advice to the commander of the 2nd ACC Advisory Panel. Because classified and contractor-proprietary information will be discussed, this meeting will be closed to the public.

DATES: February 26-28, 2004.

ADDRESSES: Bldg 205 Dodd Blvd, Langley AFB, VA.

FOR FURTHER INFORMATION CONTACT: Maj Tim Kelly, Air Force Scientific Advisory Board Secretariat, 1180 Air Force Pentagon, Rm 5D982, Washington, DC 20330-1180, (703) 697-4811.

Pamela D. Fitzgerald,
Air Force Federal Register Liaison Officer.

[FR Doc. 04-3156 Filed 2-12-04; 8:45 am]

BILLING CODE 5001-05-P